DEPARTMENT OF HOMELAND SECURITY

Federal Emergency Management Agency

Agency Information Collection Activities: Proposed Collection; Comment Request

AGENCY: Federal Emergency Management Agency, DHS.

ACTION: Notice; 60-day notice and request for comments; New Collection, FEMA Form 142-1-1.

SUMMARY: The Federal Emergency Management Agency (FEMA), as part of its continuing effort to reduce paperwork and respondent burden, invites the general public and other Federal agencies to take this opportunity to comment on a new information collection. In accordance with the Paperwork Reduction Act of 1995, this notice seeks comments concerning the proposed collection concerning public alert and warning systems at the Federal, State, territorial, tribal, and local levels of government which is necessary for the inventory and evaluation and assessment of existing public alert and warning resources and their integration with the Integrated Public Alert and Warning System (IPAWS).

SUPPLEMENTARY INFORMATION: Presidential Executive Order 13407 establishes the policy for an effective, reliable, integrated, flexible, and comprehensive system to alert and warn the American people in situations of war, terrorist attack, natural disaster, or other hazards to public safety and well being. The Integrated Public Alert and Warning System (IPAWS) is the Department of Homeland Security's (DHS) response to the Executive Order. This Executive Order requires that DHS establish an inventory of public alert and warning resources, capabilities, and the degree of integration at the Federal, State, territorial, tribal, and local levels of government. The information collected will consist of the communication systems being used for collaboration, situational awareness, and emergency notification at the local Emergency Operations Center (EOC) and higher. This information will help FEMA identify the technologies currently in use or desired for inclusion into IPAWS.

Collection of Information

Title: Integrated Public Alert and Warning System (IPAWS) Inventory and Evaluation Survey.

Type of Information Collection: New Collection.

OMB Number: 1660-NEW40.

Form Numbers: FEMA Form 142-1-1, IPAWS Inventory and Evaluation Survey.

Abstract: FEMA will be conducting an inventory, evaluation and assessment of the capabilities of Federal, State, local, and tribal government alert and warning systems. The IPAWS Inventory and Evaluation Survey will collect data that will facilitate the integration of public alert and warning systems. It will also reduce Federal planning costs by leveraging existing State systems.

Affected Public: State, local or tribal government.

Estimated Total Annual Burden Hours: 9660.

Annual Hour Burden
Data collection activity | Number of respondents | Frequency of responses | Hour burden per response (hours) | Annual responses | Total annual burden hours (hours)
| (A) | (B) | (C) | (D) = (A × B) | (C × D)
FEMA Form 142-1-1, IPAWS Inventory & Evaluation Survey | 1932 | 1 | 5 | 1932 | 9660
Total | 1932 |  |  | 1932 | 9660

Estimated Cost: The estimated total annual cost burden to respondents, using wage rate categories, is estimated to be $234,351.60. The estimated total annual cost to the Federal Government is $2,566,186.02.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before August 8, 2008.

ADDRESSES: Interested persons should submit written comments to Office of Management, Records Management Division, Federal Emergency Management Agency, 500 C Street, SW., Washington, DC 20472, Mail Drop Room 301, 1800 S. Bell Street, Arlington, VA 22202.

FOR FURTHER INFORMATION CONTACT: Contact Walter Florence, Business Operations Specialist, National Continuity Program IPAWS Division, FEMA, (202) 646-3169 for additional information. You may contact the Records Management Branch for copies of the proposed collection of information at facsimile number (202) 646-3347 or e-mail address: FEMA-Information-Collections@dhs.gov.

Dated: June 2, 2008.
John A. Sharetts-Sullivan,
Director, Records Management Division, Office of Management, Federal Emergency Management Agency, Department of Homeland Security.

[FR Doc. E8-12824 Filed 6-6-08; 8:45 am]

BILLING CODE 9110-14-P